DEPARTMENT OF ENERGY

Federal Energy Regulatory Commission

Combined Notice of Filings #1

Take notice that the Commission received the following electric corporate filings:

Docket Numbers: EC22-93-000.

Applicants: Lockhart Solar PV, LLC, Lockhart Solar PV II, LLC, Lockhart Transmission Holdings, LLC, Luz Solar Partners Ltd., VIII, Luz Solar Partners Ltd., IX.

Description: Joint Application for Authorization Under Section 203 of the Federal Power Act of Lockhart Solar PV, LLC, et al.

Filed Date: 7/21/22.

Accession Number: 20220721-5146.

Comment Date: 5 p.m. ET 8/11/22.

Docket Numbers: EC22-94-000.

Applicants: Midland Cogeneration Venture Limited Partnership, MCV Partners LLC.

Description: Application for Authorization Under Section 203 of the Federal Power Act of Midland Cogeneration Venture Limited Partnership and MCV Partners LLC.

Filed Date: 7/22/22.

Accession Number: 20220722-5031.

Comment Date: 5 p.m. ET 8/12/22.

Take notice that the Commission received the following exempt wholesale generator filings:

Docket Numbers: EG22-180-000.

Applicants: Lockhart Solar PV, LLC.

Description: Notice of Self-Certification of Exempt Wholesale Generator Status of Lockhart Solar PV, LLC.

Filed Date: 7/22/22.

Accession Number: 20220722-5083.

Comment Date: 5 p.m. ET 8/12/22.

Docket Numbers: EG22-181-000.

Applicants: Lockhart Reserve, LLC.

Description: Notice of Self-Certification of Exempt Wholesale Generator Status of Lockhart Reserve, LLC.

Filed Date: 7/22/22.

Accession Number: 20220722-5084.

Comment Date: 5 p.m. ET 8/12/22.

Docket Numbers: EG22-182-000.

Applicants: Lockhart Solar PV II, LLC.

Description: Notice of Self-Certification of Exempt Wholesale Generator Status of Lockhart Solar PV II, LLC.

Filed Date: 7/22/22.

Accession Number: 20220722-5092.

Comment Date: 5 p.m. ET 8/12/22.

Docket Numbers: EG22-183-000.

Applicants: Lockhart Transmission Holdings, LLC.

Description: Notice of Self-Certification of Exempt Wholesale Generator Status of Lockhart Transmission Holdings, LLC.

Filed Date: 7/22/22.

Accession Number: 20220722-5095.

Comment Date: 5 p.m. ET 8/12/22.

Take notice that the Commission received the following Complaints and Compliance filings in EL Dockets:

Docket Numbers: EL22-75-000.

Applicants: Nebraska Public Power District.

Description: Request of the Nebraska Public Power District For Remedial Relief under Federal Power Act Section 309.

Filed Date: 6/29/22.

Accession Number: 20220629-5200.

Comment Date: 5 p.m. ET 8/12/22.

Take notice that the Commission received the following electric rate filings:

Docket Numbers: ER22-1982-000.

Applicants: Great Prairie Wind, LLC.

Description: Amendment to May 27, 2022 Market-Based Rate Application by Great Prairie Wind, LLC.

Filed Date: 7/21/22.

Accession Number: 20220721-5149.

Comment Date: 5 p.m. ET 8/11/22.

Docket Numbers: ER22-2053-001.

Applicants: Public Service Company of Colorado.

Description: Tariff Amendment: 2022-07-22-PSCo-HLYCRS-Const Agrmt-Parachute-634-1.0.0 to be effective 6/9/2022.

Filed Date: 7/22/22.

Accession Number: 20220722-5114.

Comment Date: 5 p.m. ET 8/12/22.

Docket Numbers: ER22-2457-000.

Applicants: Midcontinent Independent System Operator, Inc., Ameren Illinois Company.

Description: § 205(d) Rate Filing: Midcontinent Independent System Operator, Inc. submits tariff filing per 35.13(a)(2)(iii: 2022-07-22_SA 2921 Ameren Illinois-Prairie Power 1st Rev T-TIA to be effective 7/22/2022.

Filed Date: 7/22/22.

Accession Number: 20220722-5012.

Comment Date: 5 p.m. ET 8/12/22.

Docket Numbers: ER22-2458-000.

Applicants: Southern California Edison Company.

Description: Tariff Amendment: Amended LGIA High 5 Solar—High Desert Power Project, LLC and HDSI, LLC, SA 229 to be effective 9/21/2022.

Filed Date: 7/22/22.

Accession Number: 20220722-5036.

Comment Date: 5 p.m. ET 8/12/22.

Docket Numbers: ER22-2459-000.

Applicants: Southern California Edison Company.

Description: Tariff Amendment: Crimson Second Amend LGIA & Terminate eTariff record to be effective 9/21/2022.

Filed Date: 7/22/22.

Accession Number: 20220722-5067.

Comment Date: 5 p.m. ET 8/12/22.

Docket Numbers: ER22-2460-000.

Applicants: New York Independent System Operator, Inc.

Description: § 205(d) Rate Filing: 205 filing of proposed tariff revisions Demand Side Response for CESIL to be effective 11/1/2022.

Filed Date: 7/22/22.

Accession Number: 20220722-5077.

Comment Date: 5 p.m. ET 8/12/22.

Docket Numbers: ER22-2461-000.

Applicants: Lockhart Transmission Holdings, LLC.

Description: Baseline eTariff Filing: Facilities Use Agreements to be effective 9/19/2022.

Filed Date: 7/22/22.

Accession Number: 20220722-5085.

Comment Date: 5 p.m. ET 8/12/22.

Docket Numbers: ER22-2462-000.

Applicants: Alabama Power Company, Georgia Power Company, Mississippi Power Company.

Description: Compliance filing: Alabama Power Company submits tariff filing per 35: Compliance Filing in Response to Show Cause Order to be effective 7/23/2022.

Filed Date: 7/22/22.

Accession Number: 20220722-5093.

Comment Date: 5 p.m. ET 8/12/22.

Docket Numbers: ER22-2464-000.

Applicants: Black Hills Power, Inc.

Description: § 205(d) Rate Filing: Filing of Jurisdictional Agreements—Misc. Serv. Agreements and Rate Schedules to be effective 12/31/9998.

Filed Date: 7/22/22.

Accession Number: 20220722-5101.

Comment Date: 5 p.m. ET 8/12/22.

Docket Numbers: ER22-2465-000.

Applicants: Black Hills Power, Inc.

Description: § 205(d) Rate Filing: Filing of Jurisdictional Agreements—Misc. Serv. Agreements and Rate Schedules to be effective 12/31/9998.

Filed Date: 7/22/22.

Accession Number: 20220722-5106.

Comment Date: 5 p.m. ET 8/12/22.

Docket Numbers: ER22-2466-000.

Applicants: Cube Yadkin Transmission LLC.

Description: Compliance filing: Order No. 881 Compliance Filing to be effective 7/12/2025.

Filed Date: 7/22/22.

Accession Number: 20220722-5115.

Comment Date: 5 p.m. ET 8/12/22.

Docket Numbers: ER22-2467-000.

Applicants: ISO New England Inc., Eversource Energy Service Company (as agent), New England Power Company, Vermont Electric Power Company, Inc.

Description: Compliance filing: ISO New England Inc. submits tariff filing per 35: Amendments to HVDC Transmission Operating Agreement in Compliance with Order 881 to be effective 9/20/2022.

Filed Date: 7/22/22.

Accession Number: 20220722-5124.

Comment Date: 5 p.m. ET 8/12/22.

Docket Numbers: ER22-2468-000.

Applicants: ISO New England Inc., New England Power Company, Vermont Electric Power Company, Inc., Eversource Energy Service Company (as agent).

Description: Compliance filing: ISO New England Inc. submits tariff filing per 35: Amendments to the Schedule 20A-Common—Attach M in Compliance with Order 881 to be effective 9/20/2022.

Filed Date: 7/22/22.

Accession Number: 20220722-5127.

Comment Date: 5 p.m. ET 8/12/22.

Docket Numbers: ER22-2469-000.

Applicants: Essential Power Newington, LLC.

Description: § 205(d) Rate Filing: IROL-CIP Rate Schedule Filing to be effective 9/21/2022.

Filed Date: 7/22/22.

Accession Number: 20220722-5130.

Comment Date: 5 p.m. ET 8/12/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 22, 2022.
Kimberly D. Bose,
Secretary.

[FR Doc. 2022-16180 Filed 7-27-22; 8:45 am]

BILLING CODE 6717-01-P